DEPARTMENT OF VETERANS AFFAIRS

Notice of Availability of Draft Programmatic Environmental Assessment for the Build-To-Suit Lease Program

AGENCY: Department of Veterans Affairs.

ACTION: Notice.

SUMMARY: The U.S. Department of Veterans Affairs (VA) announces the availability of the Draft Programmatic Environmental Assessment (PEA) for the Build-to-Suit Lease Program. The Draft PEA analyzes lease actions which include construction, renovation, repair, and operation of outpatient clinics, community living centers, and other similar leased medical facilities identified under the VA Office of Real Property build-to-suit program. VA is requesting comments on the Draft PEA.

DATES: Comments must be received on or before May 29, 2025.

ADDRESSES: The Draft PEA is available for review via the VA website: https://www.cfm.va.gov/environmental/. Comments must be submitted through www.regulations.gov. Except as provided below, comments received before the close of the comment period will be available at www.regulations.gov for public viewing, inspection, or copying, including any personally identifiable or confidential business information that is included in a comment. We post the comments received before the close of the comment period on www.regulations.gov as soon as possible after they have been received. VA will not post on Regulations.gov public comments that make threats to individuals or institutions or suggest that the commenter will take actions to harm an individual. VA encourages individuals not to submit duplicative comments; however, we will post comments from multiple unique commenters even if the content is identical or nearly identical to other comments. Any public comment received after the comment period's closing date is considered late and will not be considered.

SUPPLEMENTARY INFORMATION: The VA Office of Construction and Facilities Management, Office of Real Property supports VA's mission by, among other functions, leasing space for the construction of medical and medically related facilities to care for our nation's Veterans.

VA has prepared the Draft PEA in accordance with the regulations implementing the procedural provisions of the National Environmental Policy Act (NEPA) of 1969 (42 U.S. Code 4321-4370), as implemented by the Council on Environmental Quality regulations (40 Code of Federal Regulations [CFR] 1500-1508), and VA's NEPA Implementing Regulations (38 CFR part 26). The purpose of the proposed action is to provide eligible Veterans common medical services, assisted living care, and related services. The proposed action is needed to address current and future projected health care gaps and operational inefficiencies, especially in rural areas where access to common medical services offered by Veterans Affairs Medical Centers is not an easily accessible option.

The PEA aims to provide a streamlined NEPA compliance process for those recurring, predictable, and low-impact construction, renovation, or repair projects that would result in less than significant impacts. Use of the PEA would expedite the NEPA analysis and documentation process for those build-to-suit lease projects that meet the conditions identified within the PEA. VA will complete additional NEPA compliance as required on projects outside the parameters of the PEA. The geographic scope of the PEA is all 50 states, the District of Columbia, the U.S. Virgin Islands, the Commonwealth of Puerto Rico, Guam, the Commonwealth of the Northern Mariana Islands, American Samoa, and Tribal Lands.

Signing Authority

Douglas A. Collins, Secretary of Veterans Affairs, approved and signed this document on March 11, 2025, and authorized the undersigned to sign and submit the document to the Office of the Federal Register for publication electronically as an official document of the Department of Veterans Affairs.

Jeffrey M. Martin,
Assistant Director, Office of Regulation Policy & Management, Office of General Counsel, Department of Veterans Affairs.

[FR Doc. 2025-07324 Filed 4-28-25; 8:45 am]

BILLING CODE 8320-01-P